INTERNATIONAL TRADE COMMISSION

[Investigation Nos. 701-TA-737-738 and 731-TA-1712-1715 (Final)]

Hexamine (Hexamethylenetetramine) From China, Germany, India, and Saudi Arabia; Revised Schedule for the Subject Investigations

AGENCY: United States International Trade Commission.

ACTION: Notice.

DATES: July 10, 2025.

FOR FURTHER INFORMATION CONTACT: Charles Cummings (202-708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective May 6, 2025, the Commission established a schedule for the conduct of the final phase of the subject investigations (90 FR 21948, May 22, 2025). The Commission is revising its schedule as follows: the Commission will make its final release of information on August 11, 2025, and final party comments are due on 5:15 p.m. on August 13, 2025.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: July 10, 2025.
Lisa Barton,
Secretary to the Commission.

[FR Doc. 2025-13146 Filed 7-11-25; 8:45 am]

BILLING CODE 7020-02-P